DEPARTMENT OF DEFENSE

Office of the Secretary

[Docket ID: DoD-2024-OS-0015]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by September 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Grow Safe and Secure Feasibility Evaluation; OMB Control Number: 0704-GSFE.

Type of Request: New.

Time Point Surveys

Number of Respondents: 31.

Responses per Respondent: 3.

Annual Responses: 93.

Average Burden per Response: 15 minutes.

Annual Burden Hours: 23.

PFC (Completed by Clinicians)

Number of Respondents: 31.

Responses per Respondent: 60.

Annual Responses: 1860.

Average Burden per Response: 5 minutes.

Annual Burden Hours: 155.

Parent/Caregiver Survey

Number of Respondents: 310.

Responses per Respondent: 1.

Annual Responses: 310.

Average Burden per Response: 10 minutes.

Annual Burden Hours: 52.

Number of Respondents: 341.

Total

Number of Respondents: 372.

Annual Responses: 2,263.

Annual Burden Hours: 230.

Needs and Uses: Grow Safe and Secure (GSS) is a DoD co-developed, evidence-informed parent-education program designed to be delivered to parents/caregivers by trained clinicians in an individual format over a minimum of six sessions. This project is needed to understand the implementation feasibility of using the GSS program with parents/caregivers of elementary school-aged children (5 to 10 years old) who are experiencing or may be at risk of child maltreatment. The DoD, Service branches, and the Family Advocacy Program need to gain an understanding of: (a) the program's processes and (b) clinicians', parents', and caregivers' perceptions of the program.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: August 12, 2024.
Patricia L. Toppings,
OSD Federal Register Liaison Officer, Department of Defense.

[FR Doc. 2024-18361 Filed 8-15-24; 8:45 am]

BILLING CODE 6001-FR-P